DEPARTMENT OF THE INTERIOR

[FWS-R4-FHC-2015-N117; FVHC98210408710-XXX-FF04G01000]

Deepwater Horizon Oil Spill; Draft Phase IV Early Restoration Plan and Environmental Assessments

AGENCY: Interior.

ACTION: Notice of availability; extension of public comment period.

SUMMARY: We are extending the public comment period on our Draft Phase IV Early Restoration Plan and Environmental Assessments (Draft Phase IV ERP/EA) regarding the Deepwater Horizon Oil Spill. We opened the comment period via a May 20, 2015, notice of availability.

DATES: Comments must be submitted electronically or postmarked by 11:59 p.m. Mountain Time on July 6, 2015.

ADDRESSES: Document Availability: You may download the Draft Phase IV ERP/EA at http://www.gulfspillrestoration.noaa.gov or at http://www.doi.gov/deepwaterhorizon. Alternatively, you may request a CD of the Draft Phase IV ERP/EA (see FOR FURTHER INFORMATION CONTACT). You may also view the document at any of the public facilities listed at http://www.gulfspillrestoration.noaa.gov.

Submitting Comments: You may submit comments on the Draft Phase IV ERP/EA by one of following methods:

(1) Electronically: http://www.gulfspillrestoration.noaa.gov.

(2) By hard copy: Submit by U.S. mail to: U.S. Fish and Wildlife Service, P.O. Box 49567, Atlanta, GA 30345.

FOR FURTHER INFORMATION CONTACT: Nanciann Regalado, at nanciann_regalado@fws.gov.

SUPPLEMENTARY INFORMATION: In accordance with the Oil Pollution Act of 1990 (OPA; 33 U.S.C. 2701 et seq.) and the National Environmental Policy Act (NEPA; 42 U.S.C. 4321 et seq.), the Federal and State natural resource trustee agencies (Trustees) have prepared a Draft Phase IV Early Restoration Plan and Environmental Assessments (Draft Phase IV ERP/EA).

The Draft Phase IV ERP/EA proposes 10 early restoration projects that are consistent with the early restoration program alternatives selected in the Programmatic and Phase III Early Restoration Plan and Early Restoration Programmatic Environmental Impact Statement. The Draft Phase IV ERP/EA also includes a notice of change and supporting analysis for one Phase III Early Restoration Project, “Enhancement of Franklin County Parks and Boat Ramps—Eastpoint Fishing Pier Improvements.”

Background

For additional background information, see our original Federal Register notice, with which we opened the comment period (May 20, 2015; 80 FR 29019).

Public Comments

If you submit a comment via http://www.gulfspillrestoration.noaa.gov, your entire comment—including any personal identifying information—may be made publicly available at any time. If you submit a hardcopy comment that includes personal identifying information, you may request at the top of your document that we withhold this information from public review. However, we cannot guarantee that we will be able to do so.

Authority

The authority for this action is the National Environmental Policy Act (42 U.S.C. 4321 et seq.) and the Oil Pollution Act of 1990 (33 U.S.C. 2701 et seq.) and the implementing Natural Resource Damage Assessment regulations found at 15 CFR part 990.

Kevin Reynolds,
Deepwater Horizon Natural Resource Damage Assessment and Restoration Case Manager, Department of the Interior.

[FR Doc. 2015-15152 Filed 6-18-15; 8:45 am]

BILLING CODE 4310-55-P